DEPARTMENT OF TRANSPORTATION

Federal Aviation Administration

14 CFR Part 71

[Docket No. FAA-2025-2415; Airspace Docket No. 25-AGL-3]

RIN 2120-AA66

Amendment of Very High Frequency Omnidirectional Range Federal Airways V-14, V-192, V-210, and V-221 in the Vicinity of Muncie, Indiana

AGENCY: Federal Aviation Administration (FAA), DOT.

ACTION: Final rule.

SUMMARY: This action amends Very High Frequency Omnidirectional Range (VOR) Federal Airways V-14, V-192, V-210, and V-221 in the vicinity of Muncie, Indiana. The FAA is taking these actions due to the planned decommissioning of the VOR portion of the Muncie, IN, VOR/Distance Measuring Equipment (DME) navigational aid (NAVAID). This NAVAID is being decommissioned as part of the FAA's VOR Minimum Operational Network (MON) program.

DATES: Effective date 0901 UTC, May 14, 2026. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year. An electronic copy of this document may also be downloaded from www.federalregister.gov.

FAA Order JO 7400.11K, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Steven Roff, Rules and Regulations Group, Office of Policy, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Services (ATS) route structure as necessary to preserve the safe and efficient flow of air traffic within the National Airspace System.

History

The FAA published an NPRM for Docket No. FAA-2025-2415 in the Federal Register (90 FR 43578; September 10, 2025), proposing to amend Very High Frequency Omnidirectional Range (VOR) Federal Airways V-14, V-192, V-210, and V-221 in the vicinity of Muncie, Indiana. Interested parties were invited to participate in this rulemaking effort by submitting written comments on the proposal to the FAA. Four comments were received, but one comment was a duplicate of another with an added PDF attachment the commenter referred to as a “petition.” One comment relating to the decommissioning of the VOR portion of the VOR/DME NAVAID is outside of the scope of this action. While this rule involves removing routes that will become unusable due to the decommissioning of the VOR portion of the NAVAID, the decommissioning is a separate action from this rule, and therefore, it is outside the scope of this rule.

Another commenter stated they oppose the action proposed in the NPRM. The commenter asserted that pilots and many older general aviation aircraft rely on VOR navigation for situational awareness and emergency planning. The commenter claimed that eliminating these route segments would force pilots to shift their navigational planning or require RNAV/GPS equipment not available in all general aviation aircraft. The commenter also asserted that VOR navigation is essential for flight training. The commenter urged the FAA to preserve the airway segments for general aviation or provide clear, equivalent alternatives. In response to this comment, the FAA offers that transitioning the National Airspace System from a ground-based system of VORs to Performance Based Navigation (PBN) increases safety, efficiency, and capacity in the NAS. PBN allows for more direct flight paths, which leads to reduced fuel consumption, fewer emissions, and lower noise pollution. It also enables more efficient use of airspace by allowing aircraft to fly more precise routes, especially in congested terminal areas, and helps manage the projected increase in air traffic.

The VOR Minimum Operating Network (VOR MON) program will not eliminate all the VORs in the NAS. Instead, this program identified which VORs would need to be retained. MIE was not one of those needed to provide a conventional backup service in the event of an unplanned Global Positioning System (GPS) outage. During an unplanned GPS outage, aircraft will be able to continue VOR to VOR navigation or proceed to a MON airport and conduct a VOR, Localizer (LOC), or Instrument Landing System (ILS) approach. The VOR MON program assures that at least one airport will be within 100 Nautical Miles (NM).

When the MIE VOR is decommissioned, there will remain numerous MON airports within this 100 NM range. The closest four are Shelbyville, IN, (GEZ) at 41 NM; Fort Wayne, IN, (FWA) at 45 NM; Dayton, OH, (DAY) at 48 NM; and Indianapolis, IN, (IND) at 52 NM. Shelbyville and Fort Wayne each have a VOR instrument approach procedure. In addition, there are nearby federal airways that will remain to provide navigation service: V-11 between the Indianapolis (VHP) VORTAC and the Fort Wayne, IN (FWA) VORTAC; V-50 between the VHP VORTAC and Dayton, OH (DQN) VOR/DME; and V-55 between the FWA VORTAC and the DQN VOR/DME. Lastly, a pilot can request air traffic control radar vectors through the area.

Another commenter submitted a “petition” and raised issues with amending the routes listed in this rule but referenced the changes as occurring in the Salt Lake City area. This rule involves airspace in the vicinity of Muncie, Indiana, which is nowhere near Salt Lake City. Additionally, these routes do not even run in the vicinity of Salt Lake City. The commenter's assertions about potentially higher operational costs in the intermountain west or the need for an analysis of this rule's impact on the Salt Lake City airspace or operators are inapplicable to this rule.

The petition further asserts that the FAA did not comply with the Regulatory Flexibility Act because of alleged boilerplate language. The petition makes assumptions that because standard language is used in the NPRM, the FAA did not perform the requisite analysis to comply with applicable rules and regulations. The FAA reviews updates to each piece of airspace individually and conducts all necessary analyses on its airspace actions in accordance with applicable law, authority, and agency guidance, including the Administrative Procedures Act; the Regulatory Flexibility Act; E.O. 12866; FAA Order JO 7400.2R, Procedures for Handling Airspace Matters; and FAA Order 1050.1G, FAA National Environmental Policy Act Implementing Procedures. Language in the NPRM and final rule for this action utilizes certain standardized text common to similar routine airspace actions, but is tailored to the specific action. Use of standardized text ensures consistency among similar routine actions, and allows FAA to streamline one of its most prolific rulemaking portfolios. However, adoption of standardized text does not indicate a lack of thorough and adequate analysis.

The petition also referenced the National Environmental Policy Act (NEPA) and requested certain actions. However, there was no requirement for an environmental review to be performed prior to the NPRM stage. The NPRM contained an “Environmental Review” section noting that the proposal was subject to an environmental analysis in accordance with FAA Order 1050.1G, FAA National Environmental Policy Act Implementing Procedures, before any FAA final regulatory action.

Incorporation by Reference

VOR Federal Airways are published in paragraph 6010 of FAA Order JO 7400.11, Airspace Designations and Reporting Points, which is incorporated by reference in 14 CFR 71.1 on an annual basis. This document amends the current version of that order, FAA Order JO 7400.11K, dated August 4, 2025, and effective September 15, 2025. These amendments will be published in the next update to FAA Order JO 7400.11. FAA Order JO 7400.11K, which lists Class A, B, C, D, and E airspace areas, air traffic service routes, and reporting points, is publicly available as listed in the ADDRESSES section of this document.

The Rule

This action amends 14 CFR part 71 by modifying VOR Federal Airways V-14, V-192, V-210 and V-221 in the vicinity of Muncie, Indiana.

V-14: Prior to this rule, V-14 extended between the Chisum, NM, VORTAC and the Flag City, OH, VORTAC. A portion of V-14, between the Brickyard, IN, VORTAC and the Flag City, VORTAC will become unusable with the decommissioning of Muncie, IN, VOR. Additionally, the portion of V-14 between the Terre Haute, IN, VORTAC and the Brickyard VORTAC is redundant as it is overlaid by V-50. As amended, V-14 extends between the Chisum VORTAC and the St. Louis, MO, VORTAC.

V-192: Prior to this rule, V-192 extended between the Champaign, IL, VORTAC and the Dayton, OH, VOR/DME. The portion of V-192 between the Brickyard, IN VORTAC and the Dayton VOR/DME will become unusable with the decommissioning of the Muncie, IN, VOR. As a mitigation, aircraft can utilize nearby V-50 to navigate between the Brickyard VORTAC and the Dayton VOR/DME. As amended, V-192 extends between the Champaign VORTAC and the Brickyard VORTAC.

V-210: Prior to this rule, V-210 extended between the Los Angeles, CA, VORTAC and the Lamar, CO, VOR/DME, between the Will Rogers, OK, VORTAC and the Okmulgee, OK, VOR/DME, between the Brickyard, IN, VORTAC and the Rosewood, OH, VORTAC, and between the Harrisburg, PA, VORTAC and the Yardley, PA, VOR/DME. The portion of V-210 between the Brickyard and Rosewood VORTACs will become unusable with the decommissioning of the Muncie, IN, VOR. As amended, V-210 extends between the Los Angeles VORTAC and the Lamar VOR/DME, between the Will Rogers VORTAC and the Okmulgee VOR/DME, and between the Harrisburg VORTAC and the Yardley VOR/DME.

V-221: Prior to this rule, V-221 extended between the Bible Grove, IL, VORTAC and the intersection of the Fort Wayne, IN, VORTAC 016° and the Goshen, IN, TACAN 092° radials. The portion of V-221 between the Shelbyville, IN, NDB and the Fort Wayne VORTAC will become unusable with the decommissioning of the Muncie, IN, VOR. As amended, V-221 extends between the Bible Grove VORTAC and the Shelbyville NDB.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending Very High Frequency Omnidirectional Range (VOR) Federal Airways V-14, V-192, V-210, and V-221 qualifies for categorical exclusion under the National Environmental Policy Act (42 U.S.C. 4321, et seq.) and in accordance with FAA Order 1050.1G, FAA National Environmental Policy Act Implementing Procedures, paragraph B-2.5(a) which categorically excludes from further environmental impact review rulemaking actions that designate or modify classes of airspace areas, airways, routes, and reporting points (see 14 CFR part 71, Designation of Class A, B, C, D, and E Airspace Areas; Air Traffic Service Routes; and Reporting Points); and paragraph B-2.5(i), which categorically excludes from further environmental impact review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. As such, this action is not expected to result in any potentially significant environmental impacts. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

Paragraph 6010 VOR Federal Airways.

* * * * *

V-14 [Amended]

From Chisum, NM; Lubbock, TX; Childress, TX; Hobart, OK; Will Rogers, OK; INT Will Rogers 052° and Tulsa, OK, 246° radials; to Tulsa. From Springfield, MO; Vichy, MO; INT Vichy 067° and St. Louis, MO, 225° radials; to St. Louis.

* * * * *

V-192 [Amended]

From Champaign, IL; Terre Haute, IN, INT 079° and Brickyard, IN, 230° radials; to Brickyard.

* * * * *

V-210 [Amended]

From Los Angeles, CA; INT Los Angeles 083° and Pomona, CA, 240° radials; Pomona; INT Daggett, CA, 229° and Hector, CA, 263° radials; Hector; Goffs, CA; 13 miles, 23 miles 71 MSL, 85 MSL Peach Springs, AZ; Grand Canyon, AZ; Tuba City, AZ; 10 miles 90 MSL, 91 miles 105 MSL Rattlesnake, NM; Alamosa, CO; INT Alamosa 074° and Lamar, CO, 250° radials; 40 miles, 51 miles 65 MSL to Lamar. From Will Rogers, OK; INT Will Rogers 113° and Okmulgee, OK, 238° radials; to Okmulgee. From Harrisburg, PA; Lancaster, PA; INT Lancaster 095° and Yardley, PA, 255° radials; to Yardley.

* * * * *

V-221 [Amended]

From Bible Grove, IL; Hoosier, IN; to Shelbyville, IN.

* * * * *

Issued in Washington, DC, on February 20, 2026.
Alex W. Nelson,
Manager, Rules and Regulations Group.

[FR Doc. 2026-03651 Filed 2-23-26; 8:45 am]

BILLING CODE 4910-13-P